DEPARTMENT OF COMMERCE

National Institute of Standards and Technology

Second Smart Grid Interoperability Standards Interim Roadmap Public Workshop

AGENCY: National Institute of Standards and Technology (NIST), United States Department of Commerce.

ACTION: Notice of public workshop.

SUMMARY: The National Institute of Standards and Technology announces that a free two-day public workshop on Smart Grid standards will be held on May 19-20, 2009, in the Washington, DC area.

DATES: The free public workshop will be held on May 19 and 20, 2009, from 8 a.m. to 5 p.m.

ADDRESSES: The free public workshop will be held in the Washington, DC, area at the Gaylord National Hotel and Convention Center, 201 Waterfront Street, National Harbor, MD 20745. The location and registration information will be posted at: http://www.nist.gov/smartgrid/. Those interested in attending also can call Ashley Eldrege of the Electric Power Research Institute, on 650-855-2063 to register, or send a message to smartgrid@nist.gov.

FOR FURTHER INFORMATION CONTACT: Zulma Lainez at 301-975-2232 or by e-mail at smartgrid@nist.gov.

SUPPLEMENTARY INFORMATION: Under the Energy Independence and Security Act (EISA) of 2007 (Pub. L. 110-140), the National Institute of Standards and Technology (NIST) has “primary responsibility to coordinate development of a framework that includes protocols and model standards for information management to achieve interoperability of smart grid devices and systems * * *” (EISA, section 1305)

In 2008, responding to this mandate, NIST initiated a government/industry effort to develop and achieve consensus on an Interoperability Framework and to engage the many Smart Grid stakeholders in a coordinated approach to identify or develop needed standards. This coordinated effort was designed and initiated in full collaboration with the Department of Energy. In early 2009, responding to President Obama's energy-related national priorities, NIST intensified and expedited efforts to accelerate progress toward stakeholder consensus on Smart Grid standards.

On April 28-29, 2009 an initial workshop was held in Reston, VA at which stakeholders engaged in discussions of Smart Grid architecture and requirements, and existing standards or standards under development that could be used as a foundation for Smart Grid interoperability standards. The May 19-20 workshop will continue the stakeholder consensus process by identifying additional standardization needs and providing input to a roadmap for their development. NIST has contracted with EPRI to facilitate both workshops. As specified in its contract with NIST, EPRI will utilize its technical expertise to compile, distill and organize stakeholder contributions into a draft interim roadmap for Smart Grid interoperability standards. The workshops and the interim roadmap document, coordinated by EPRI under its contract, provide an input to the NIST effort to expedite development of key standards for the Smart Grid. By early fall, NIST expects to describe an initial Smart Grid architecture, priorities for interoperability standards, including cybersecurity; an initial set of standards to support support implementation; and plans to meet remaining standards needs.

NIST will submit standards that are identified or developed through this process to the Federal Energy Regulatory Commission (FERC). Once FERC determines that there is sufficient consensus, EISA instructs FERC to institute a rulemaking proceeding to adopt the standards and protocols that may be necessary to ensure that there is Smart Grid functionality and interoperability in interstate transmission of electric power, and in regional and wholesale electricity markets.

Plenary and break-out sessions at the May 19-20 workshop will cover a range of power, communication, and cybersecurity issues. Particular emphasis will be given to four high-priority Smart Grid applications identified by FERC: Demand Response, Electric Transportation, Wide-Area Visualization, and Storage.

Additional Information: More information is available on the NIST Smart Grid project Web site at: http://www.nist.gov/smartgrid/. To help it fulfill its mandate to facilitate Smart Grid standards interoperability, NIST also manages a Smart Grid collaboration Web site at: http://collaborate.nist.gov/twiki-sggrid/bin/view/SmartGrid/WebHome. NIST recently contracted with the Electric Power Research Institute (EPRI) to perform services related to NIST's effort to coordinate development of Smart Grid standards. The contract requires EPRI to help NIST organize and facilitate two workshops at which stakeholders will present, review, develop, and work toward consensus on roadmap content and to use its technical expertise to compile, distill, and organize stakeholder contributions into a draft interim roadmap for smart grid interoperability standards. This notice announces the second of those workshops. All EPRI outputs under the contract are subject to NIST review and approval and are owned by NIST.

Dated: May 6, 2009.
Richard F. Kayser,
Chief Scientist.

[FR Doc. E9-11096 Filed 5-12-09; 8:45 am]

BILLING CODE 3510-13-P